DEPARTMENT OF DEFENSE

Office of the Secretary

[Transmittal No. 22-0V]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 22-0V.

Dated: September 9, 2024.
Aaron T. Siegel,
Alternate OSD Federal Register Liaison Officer, Department of Defense.

BILLING CODE 6001-FR-P

BILLING CODE 6001-FR-C

Transmittal No. 22-0V

REPORT OF ENHANCEMENT OR UPGRADE OF SENSITIVITY OF TECHNOLOGY OR CAPABILITY (SEC. 36(B)(5)(C), AECA)

(i) Purchaser: Taipei Economic and Cultural Representative Office in the United States (TECRO)

(ii) Sec. 36(b)(1), AECA Transmittal No.: 09-75

Date: January 29, 2010

Military Department: Army

Funding Source: National Funds

(iii) Description: On January 29, 2010, Congress was notified by Congressional certification transmittal number 09-75, of the possible sale, under Section 36(b)(1) of the Arms Export Control Act, of 114 PATRIOT Advanced Capability (PAC-3) missiles, 3 AN/MPQ-65 Radar Sets, 1 AN/MSQ-133 Information and Coordination Centrals, 1 Tactical Command Station, 3 Communication Relay Groups, 3 AN/MSQ-132 Engagement Control Stations, 26 M902 Launching Stations, 5 Antenna Mast Groups, 1 Electronic Power Plant III (EPP), battery and battalion maintenance equipment, prime movers, generators, electrical power units, personnel training and equipment, trailers, communication equipment, tool and test sets, spare and repair parts, publications and technical documentation, Quality Assurance Team support services, U.S. Government and contractor engineering and logistics support service and other related elements of logistics support. The estimated total cost was $2.81 billion. Major Defense Equipment (MDE) constituted $1.57 billion of this total.

This transmittal notifies the inclusion of the following MDE items: one hundred (100) PAC-3 Missile Segment Enhancement (MSE) missiles; and two (2) PAC-3 MSE test missiles. Also included are M903 Launcher modification kits; missile round trainers; and Post Deployment Build (PDB) 8.1 software upgrade. The estimated total value of these additional items is $882 million. These additions will not result in an increase to the total estimated MDE value of $1.57 billion. The total estimated case value will remain $2.81 billion.

(iv) Significance: The proposed sale will enhance the recipient's PATRIOT missile system to improve its missile defense capability, defend its territorial integrity, and deter threats for regional stability.

(v) Justification: This proposed sale serves U.S. national, economic, and security interests by supporting the recipient's continuing efforts to modernize its armed forces and to maintain a credible defensive capability. The proposed sale will help improve the security of the recipient and assist in maintaining political stability, military balance, and economic progress in the region.

(vi) Sensitivity of Technology:

The PAC-3 Missile Segment Enhanced missile is a small, highly agile, kinetic kill interceptor for defense against tactical ballistic missiles, cruise missiles and air-breathing threats. The MSE variant of the PAC-3 missile represents the next generation in hit-to-kill interceptors and provides expanded battlespace against evolving threats. The PAC-3 MSE improves upon the original PAC-3 capability with a higher performance solid rocket motor, modified lethality enhancer, more responsible control surfaces, upgraded guidance software, and insensitive munitions improvements.

The highest level of classification of defense articles, components, and services included in this potential sale is SECRET.

(vii) Date Report Delivered to Congress: December 1, 2022

[FR Doc. 2024-20724 Filed 9-11-24; 8:45 am]

BILLING CODE 6001-FR-P